DEPARTMENT OF ENERGY

Federal Energy Regulatory Commission

Combined Notice of Filings

Take notice that the Commission has received the following Natural Gas Pipeline Rate and Refund Report filings:

Filings Instituting Proceedings

Docket Numbers: RP15-1011-000.

Applicants: Transcontinental Gas Pipe Line Company,

Description: § 4(d) rate filing per 154.204: Non-Conforming Agreement_NESL_MSCG to be effective 6/1/2015.

Filed Date: 5/29/15.

Accession Number: 20150529-5002.

Comments Due: 5 p.m. ET 6/10/15.

Docket Numbers: RP15-1012-000.

Applicants: Transcontinental Gas Pipe Line Company,

Description: § 4(d) rate filing per 154.204: Update List of Non-Conforming Service Agreements (NESL_MSCG) to be effective 6/1/2015.

Filed Date: 5/29/15.

Accession Number: 20150529-5005.

Comments Due: 5 p.m. ET 6/10/15.

Docket Numbers: RP15-1013-000.

Applicants: Colorado Interstate Gas Company, L.L.C.

Description: § 4(d) rate filing per 154.403(d)(2): FL&U to be effective July 1, 2015 to be effective 7/1/2015.

Filed Date: 5/29/15.

Accession Number: 20150529-5007.

Comments Due: 5 p.m. ET 6/10/15.

Docket Numbers: RP15-1014-000.

Applicants: Hardy Storage Company, LLC.

Description: § 4(d) rate filing per 154.204: Annual Penalty Revenue Crediting Report 2015 to be effective 6/29/2015.

Filed Date: 5/29/15.

Accession Number: 20150529-5074.

Comments Due: 5 p.m. ET 6/10/15.

Docket Numbers: RP15-1015-000.

Applicants: MarkWest Pioneer, L.L.C.

Description: § 4(d) rate filing per 154.403(d)(2): Quarterly FRP Filing to be effective 7/1/2015.

Filed Date: 5/29/15.

Accession Number: 20150529-5079.

Comments Due: 5 p.m. ET 6/10/15.

Docket Numbers: RP15-1016-000.

Applicants: Kinder Morgan Louisiana Pipeline LLC.

Description: § 4(d) rate filing per 154.403: Periodic Rate Adjustment to be effective 7/1/2015.

Filed Date: 5/29/15.

Accession Number: 20150529-5182.

Comments Due: 5 p.m. ET 6/10/15.

Docket Numbers: RP15-1017-000.

Applicants: El Paso Natural Gas Company, L.L.C.

Description: § 4(d) rate filing per 154.204: Non-Conforming Agreements Filing (PNM) to be effective 7/1/2015.

Filed Date: 5/29/15.

Accession Number: 20150529-5233.

Comments Due: 5 p.m. ET 6/10/15.

Docket Numbers: RP15-1018-000.

Applicants: Dominion Transmission, Inc.

Description: § 4(d) rate filing per 154.204: DTI—May 29, 2015 Nonconforming Service Agreement to be effective 6/1/2015.

Filed Date: 5/29/15.

Accession Number: 20150529-5238.

Comments Due: 5 p.m. ET 6/10/15.

Docket Numbers: RP15-1019-000.

Applicants: Ruby Pipeline, L.L.C.

Description: § 4(d) rate filing per 154.403(d)(2): FL&U to be effective July 1, 2015 to be effective 7/1/2015.

Filed Date: 5/29/15.

Accession Number: 20150529-5247.

Comments Due: 5 p.m. ET 6/10/15.

Docket Numbers: RP15-1020-000.

Applicants: Rockies Express Pipeline LLC.

Description: Penalty Charge Reconciliation Filing of Rockies Express Pipeline LLC.

Filed Date: 5/29/15.

Accession Number: 20150529-5269.

Comments Due: 5 p.m. ET 6/10/15.

Docket Numbers: RP15-1021-000.

Applicants: Cheyenne Plains Gas Pipeline Company, L.

Description: § 4(d) rate filing per 154.204: Rate Schedule HSP to be effective 7/1/2015.

Filed Date: 5/29/15.

Accession Number: 20150529-5272.

Comments Due: 5 p.m. ET 6/10/15.

Docket Numbers: RP15-1022-000.

Applicants: Alliance Pipeline L.P.

Description: § 4(d) rate filing per 154.204: New Services Offering to be effective 7/1/2015.

Filed Date: 5/29/15.

Accession Number: 20150529-5277.

Comments Due: 5 p.m. ET 6/10/15.

Docket Numbers: RP15-1023-000.

Applicants: Rockies Express Pipeline LLC.

Description: § 4(d) rate filing per 154.204: Neg Rate 2015-05-29 Yates, ConocoPhillips to be effective 6/1/2015.

Filed Date: 5/29/15.

Accession Number: 20150529-5278.

Comments Due: 5 p.m. ET 6/10/15.

Docket Numbers: RP15-1024-000.

Applicants: Rockies Express Pipeline LLC.

Description: § 4(d) rate filing per 154.204: Neg Rate 2015-05-29 ITs Sequent, BP, Mieco, Tenaska, Exelon to be effective 6/1/2015.

Filed Date: 5/29/15.

Accession Number: 20150529-5307.

Comments Due: 5 p.m. ET 6/10/15.

Docket Numbers: RP15-1025-000.

Applicants: Tallgrass Interstate Gas Transmission, L.

Description: § 4(d) rate filing per 154.204: Neg Rate 2015/5/29 Cross Timbers to be effective 6/1/2015.

Filed Date: 5/29/15.

Accession Number: 20150529-5365.

Comments Due: 5 p.m. ET 6/10/15.

Docket Numbers: RP15-1027-000.

Applicants: Iroquois Gas Transmission System, L.P.

Description: § 4(d) rate filing per 154.204: 05/29/15 Negotiated Rates—Cargill Incorporated (RTS) 3085-23 to be effective 5/29/2015.

Filed Date: 5/29/15.

Accession Number: 20150529-5467.

Comments Due: 5 p.m. ET 6/10/15.

Docket Numbers: RP15-1028-000.

Applicants: Gas Transmission Northwest LLC.

Description: Compliance filing per 154.203: Compliance to RP15-904-000 to be effective 7/1/2015.

Filed Date: 5/29/15.

Accession Number: 20150529-5469.

Comments Due: 5 p.m. ET 6/10/15.

Docket Numbers: RP15-1045-000.

Applicants: American Midstream (AlaTenn), LLC.

Description: § 4(d) rate filing per 154.204: Off-System Capacity Filing to be effective 7/6/2015.

Filed Date: 6/3/15.

Accession Number: 20150603-5137.

Comments Due: 5 p.m. ET 6/15/15.

Docket Numbers: RP15-1046-000.

Applicants: Equitrans, L.P.

Description: § 4(d) rate filing per 154.204: Negotiated Capacity Release Agreement- 6/03/2015 to be effective 6/3/2015.

Filed Date: 6/3/15.

Accession Number: 20150603-5138.

Comments Due: 5 p.m. ET 6/15/15.

Docket Numbers: RP15-1047-000.

Applicants: Alliance Pipeline L.P.

Description: § 4(d) rate filing per 154.204: June 9—19 2015 Auction to be effective 6/3/2015.

Filed Date: 6/3/15.

Accession Number: 20150603-5161.

Comments Due: 5 p.m. ET 6/15/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2015.
Nathaniel J. Davis, Sr.,
Deputy Secretary.

[FR Doc. 2015-14389 Filed 6-11-15; 8:45 am]

BILLING CODE 6717-01-P